DEPARTMENT OF LABOR

Mine Safety and Health Administration

30 CFR Parts 56 and 57

[Docket No. MSHA-2014-0030]

RIN 1219-AB87

Examinations of Working Places in Metal and Nonmetal Mines

AGENCY: Mine Safety and Health Administration, Labor.

ACTION: Announcement of public stakeholder meetings.

SUMMARY: The Mine Safety and Health Administration (MSHA) is announcing the dates and locations of public stakeholder meetings on the Agency's standards for Examinations Of Working Places in Metal and Nonmetal Mines.

DATES: The meeting dates and locations are listed in the SUPPLEMENTARY INFORMATION section of this document.

ADDRESSES: Federal Register Publications: Access rulemaking documents electronically at http://www.msha.gov/regsinfo.htm or http://www.regulations.gov [Docket Number: MSHA-2014-0030].

FOR FURTHER INFORMATION CONTACT: Sheila A. McConnell, Director, Office of Standards, Regulations, and Variances, MSHA, at mcconnell.sheila.a@dol.gov (email), 202-693-9440 (voice), or 202-693-9441 (fax). These are not toll-free numbers.

SUPPLEMENTARY INFORMATION:

I. Stakeholder Meetings

MSHA will hold six public meetings to inform and educate the mining community on the requirements of the Metal and Nonmetal Examinations of Working Places final rule, which is effective June 2, 2018. At the meetings, MSHA will provide training and compliance assistance materials to attendees. The public meetings will begin at 9 a.m. and end not later than 5 p.m., on the following dates at the locations indicated:

Date/time | Location | Contact No.
May 1, 2018, 9 a.m | DoubleTree by Hilton Hotel Bloomington, 10 Brickyard Drive, Bloomington, Illinois 61701 | 309-664-6446
May 15, 2018, 9 a.m | Sheraton Birmingham Hotel, 2101 Richard Arrington Jr. Blvd. N,, Birmingham, Alabama 35203 | 205-324-5000
May 17, 2018, 9 a.m | Hilton Garden Inn, Pittsburgh Downtown, 250 Forbes Avenue, Pittsburgh, Pennsylvania 15222 | 412-281-5557
May 22, 2018, 9 a.m | Renaissance Reno Downtown Hotel, One South Lake Street, Reno, Nevada 89501 | 775-682-3900
May 24, 2018, 9 a.m | DoubleTree by Hilton Hotel Dallas—Market Center, 2015 Market Center Blvd, Dallas, Texas 75207 | 214-741-7481
May 31, 2018, 9 a.m | Hilton Garden Inn Denver Tech Center, 7675 East Union Ave., Denver, Colorado 80237 | 303-770-4200

II. Background

On January 23, 2017, the Mine Safety and Health Administration published a final rule (January 2017 rule) amending the standards then in effect on examinations of working places in metal and nonmetal mines, 30 CFR 56.18002 and 57.18002 (82 FR 7680). The January 2017 final rule, which was scheduled to become effective on May 23, 2017, was stayed until June 2, 2018 (82 FR 46411). On September 12, 2017, MSHA published a proposed rule that would make limited changes to the January 2017 final rule (82 FR 42765). The final rule, which is published elsewhere in this issue of the Federal Register, is effective on June 2, 2018.

David G. Zatezalo,
Assistant Secretary of Labor for Mine Safety and Health.

[FR Doc. 2018-07083 Filed 4-6-18; 8:45 am]

BILLING CODE 4520-43-P